DEPARTMENT OF ENERGY

Federal Energy Regulatory Commission

[Project No. 2277-023]

Union Electric Company (dba Ameren Missouri); Notice of Availability of Draft Environmental Assessment

In accordance with the National Environmental Policy Act of 1969 and the Federal Energy Regulatory Commission (Commission) regulations, 18 CFR part 380 (Order No. 486, 52 FR 47897), the Office of Energy Projects has reviewed the application for a new license for the Taum Sauk Pumped Storage Project (FERC Project No. 2277), located on the East Fork of the Black River in Reynolds County, Missouri, and prepared a draft environmental assessment (EA).

In the draft EA, Commission staff analyzes the potential environmental effects of licensing the project, and concludes that issuing a new license for the project, with appropriate environmental measures, would not constitute a major federal action significantly affecting the quality of the human environment.

A copy of the draft EA is available for review at the Commission in the Public Reference Room or may be viewed on the Commission's web site at www.ferc.gov using the “eLibrary” link. Enter the docket number, excluding the last three digits, in the docket number field to access the document. For assistance, contact FERC Online Support at FERCOnlineSupport@ferc.gov or toll-free at 1-866-208-3676, or for TTY, 202-502-8659.

You may also register online at www.ferc.gov/docs-filing/esubscription.asp to be notified via email of new filings and issuances related to this or other pending projects. For assistance, contact FERC Online Support.

Any comments should be filed within 30 days from the date of this notice. Comments may be filed electronically via the Internet. See 18 CFR 385.2001(a)(1)(iii) and the instructions on the Commission's Web site www.ferc.gov/docfiling/efiling.asp. Commenters can submit brief comments up to 6,000 characters, without prior registration, using the eComment system at www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426. Please affix “Taum Sauk Pumped Storage Project No. 2277-023” to all comments.

For further information, please contact Janet Hutzel by telephone at (202) 502-8675, or by email at janet.hutzel@ferc.gov.

Dated: March 1, 2013.
Kimberly D. Bose,
Secretary.

[FR Doc. 2013-05278 Filed 3-6-13; 8:45 am]

BILLING CODE 6717-01-P